DEPARTMENT OF JUSTICE

Notice of Lodging of Consent Decree Pursuant to the Clean Air Act

Notice is hereby given, in accordance with that on June 18, 2003, the United States lodged a proposed Consent Decree with the United States District Court for the Western District of Wisconsin, United States v. Northern States Power Co., a Wisconsin corporation, doing business, as Xcel Energy, Case No. 03-C-0330-C (W.D. Wis.), under the Clean Air Act (“CAA”). The proposed consent Decree resolves specific allegations and claims of the United States Against Northern States Power Co. (“NSP”), arising out of the company's operation of an electricity generating facility in La Crosse, Wisconsin. The French Island Plant is located on the Mississippi River at 200 South Bainbridge Street, La Crosse, La Crosse County, Wisconsin, which is within the Western District of Wisconsin.

The consent Decree requires NSP to install and operate pollution control equipment on each municipal waste combustor (“MWC”) necessary to come into compliance with emission limits for large MWC's, with the exception the carbon monoxide (“CO”) emission limitation. NSP has already installed a dry lime injection scrubber and pulse jet baghouse on each MWC, and installed a Selective Noncatalytic Reduction process to control nitrous oxide (“NOX”) emissions. NSP has also installed continuous emission monitoring systems for both sulfur dioxide (“SO2”) and NOX on each MWC. With the exception of the CO emission limitation, this pollution control equipment has brought NSP into compliance with pollutant emission limitations set forth in the large MWC regulations.

In addition, NSP will complete all training requirements no later than 6 months from the lodging date of the Consent Decree, and will comply with applicable recordkeeping and recording requirements. It has also agreed to implement a plan to minimize CO emissions during the pendency of the Decree.

NSP is currently unable to meet the large MWC CO emission limitation of 100 ppmv consistently. On July 8, 2002, NSP submitted a Petition to EPA's Administrator to modify the CO emission limitation in the large MWC regulations. The Consent Decree requires that, during the pendency of the petition, NSP undertake significant steps to minimize the potential for CO exceedences. NSP is also required to report any CO emission limitation exceedance. Moreover, if EPA does not agree to modify the CO emission limitation included in the large MWC regulations, the Consent Decree reserves EPA's right to requires NSP to install further control equipment upgrades or other facility changes necessary to comply with the then applicable CO emission limit.

Under the terms of the proposed settlement, NSP will pay a civil penalty of $500,000 to the United States.

The Department of Justice will accept written comments relating to the proposed Consent Decree for 30 days after publication of this Notice. Comments should be addressed to the Assistant Attorney General, Environment and Natural Resources Division, United States Department of Justice, P.O. Box 7611, Ben Franklin Station, Washington, DC 20044-7611, and should refer to United States v. NSP, Case Number 03-C-0330-C (W.D. Wis.), DJ Ref. #90-5-2-1-07638. The proposed Consent Decree may be examined at the Office of the United States Attorney for the Western District of Wisconsin, Madison, Wisconsin, and at the Regional 5 Office of the United States Environmental Protection Agency, 77 West Jackson Boulevard, Chicago, Illinois 60604. During the Public comment period, the Consent Decree may also be examined on the following Department of Justice Web site, http://www.usdoj.gov/enrd/open.html. A copy of the proposed consent decree may also be obtained by mail from the U.S. Department of Justice, Consent Decree Library, P.O. Box 7611, Washington, DC 20044-7611 or by faxing a request to Tonia Fleetwood (tonia.fleetwood@usdoj.gov), fax no. (202) 514-0097, phone confirmation number (202) 514-1547. In requesting a copy, please enclose a check for reproduction costs (at 25 cents per page) in the amount of $8.75 for the decree, payable to the United States Treasury.

William D. Brighton,
Assistant Chief, Environmental Enforcement Section, Environment and Natural Resources Division.

[FR Doc. 03-16777 Filed 7-1-03; 8:45 am]

BILLING CODE 4410-15-M